DEPARTMENT OF COMMERCE

National Oceanic and Atmospheric Administration

Proposed Information Collection; Comment Request; Southeast Region Bycatch Reduction Device Certification Family of Forms

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 24, 2008.

ADDRESSES: Direct all written comments to Diana Hynek, Departmental Paperwork Clearance Officer, Department of Commerce, Room 6625, 14th and Constitution Avenue, NW., Washington, DC 20230 (or via the Internet at dHynek@doc.gov).

FOR FURTHER INFORMATION CONTACT: Requests for additional information or copies of the information collection instrument and instructions should be directed to Jason Rueter, (727) 824-5350 or jason.rueter@noaa.gov.

SUPPLEMENTARY INFORMATION:

I. Abstract

Any person seeking to obtain certification for bycatch reduction devices (BRD) to be used on shrimp vessels in the Gulf of Mexico or South Atlantic must apply for authorization to conduct tests and submit the test results. Persons seeking certification to be observers for such tests in the Gulf of Mexico must file an application and provide three references. The information is needed for NOAA to determine if the equipment meets the standards that would allow its use in commercial fisheries.

II. Method of Collection

Paper applications and telephone calls are required from participants, and methods of submittal include mailing and facsimile transmission of paper forms.

III. Data

OMB Number: 0648-0345.

Form Number: None.

Type of Review: Regular submission.

Affected Public: Individuals or households; business or other for-profit organizations.

Estimated Number of Respondents: 32.

Estimated Time per Response: Pre-certification and certification applications, 2 hours and 20 minutes; pre-certification data collection, 3 hours; vessel information form, trip report/cover sheet and duplication/mailing of independent BRD tests, 30 minutes; gear specification form, station sheet and station sheet tuning forms, Turtle Excluder Device/BRD specification form, length frequency form, condition and fate form, 20 minutes; species characterization form and program receipt form, 5 hours; sea turtle form, 15 minutes; final reports, 4 hours; testing, 4 hours; observer certifications and observer references, 1 hour.

Estimated Total Annual Burden Hours: 6,899.

Estimated Total Annual Cost to Public: $306,495 in capital and recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 15, 2008.
Gwellnar Banks,
Management Analyst, Office of the Chief Information Officer.

[FR Doc. E8-915 Filed 1-18-08; 8:45 am]

BILLING CODE 3510-22-P